DEPARTMENT OF HEALTH AND HUMAN SERVICES

Administration for Children and Families

Statement of Organization, Functions, and Delegations of Authority

Notice is hereby given that I have delegated to the Director of the Anti-Trafficking in Persons Division, the following authority vested in the Director of the Office of Refugee Resettlement under the Trafficking Victims Protection Act of 2000, Public Law No. 106-386, 114 Stat. 1464 (2000).

(a) Authority Delegated.

Authority to conduct certification activities under the Trafficking Victims Protection Act of 2000, Public Law No. 106-386, 107(b)(1), 114 Stat. 1464, 1475 (2000). In exercising this authority, personnel in the Office of Refugee Resettlement will consult with the Attorney General.

(b) Limitations and Conditions.

1. This delegation shall be exercised under the Department's existing delegation of authority and policy on regulations.

2. This delegation shall be exercised under financial and administrative requirements applicable to all Administration for Children and Families' authorities.

3. This authority may not be re-delegated.

(c) Effective Date.

This delegation of authority is effective upon the date of signature.

(d) Effect on Existing Delegations.

None.

In addition, I hereby affirm and ratify any actions taken by the Director, Anti-Trafficking in Persons Division, which, in effect, involved the exercise of these authorities prior to the effective date of this delegation.

Dated: January 23, 2008.
Brent Orrell,
Acting Director, Office of Refugee Resettlement.

[FR Doc. 08-355 Filed 1-28-08; 8:45 am]

BILLING CODE 4184-01-P